DEPARTMENT OF THE INTERIOR

Fish and Wildlife Service

Endangered and Threatened Species Permit Applications

ACTION: Notice of receipt of applications.

SUMMARY: The following applicants have applied for a permit to conduct certain activities with endangered species. This notice is provided pursuant to section 10(a) of the Endangered Species Act of 1973, as amended (16 U.S.C. 1531, et seq.).

Permit No. TE-022329

Applicant: Mike Warton and Associates, Cedar Park, Texas

Applicant requests authorization to conduct presence/absence surveys for the Bee Creek Cave harvestman (Texella reddelli), Bone Cave harvestman (Texella reyesi), Tooth Cave pseudoscorpion (Tartarocreagris texana), Tooth Cave spider (Neoleptoneta myopica), Tooth Cave ground beetle (Rhadine persephone), Kretchmarr Cave mold beetle (Texamaurops reddelli), and to survey and collect the Coffin Cave mold beetle (Batrisodes texanus) primarily in Travis and Williamson Counties, Texas.

Permit No. TE-22628

Applicant: Stephanie Smallhouse, Benson, Arizona

Applicant requests authorization to conduct presence/absence surveys for the cactus ferruginous pygmy-owl (Glaucidium brasilianum cactorum), and the southwestern willow flycatcher (Empidonax traillii extimus) in Pima, Pinal, and Cochise Counties, Arizona.

Permit No. TE-022190

Applicant: Arizona-Sonora Desert Museum, Tucson, Arizona

Applicant requests authorization to salvage the Pima pineapple cactus (Coryphantha scheeri var. robustispina) in various sites in Pima County for scientific research and recovery purposes.

Permit No. TE-776123

Applicant: Texas A & M University at Galveston, Dept. of Marine Biology, Galveston, Texas

Applicant requests authorization to take, transport, hold on land, then release Kemp's ridley (Lepidochelys kempii), hawksbill (Eretmochelys imbricata), green (Chelonia mydas), and loggerhead (Caretta caretta) sea turtles for attachment of radio/sonic tags, and for ultrasound or laparoscopic examination for the purpose of enhancement of the species.

Permit No. TE-827367

Applicant: Bureau of Land Management, Lake Havasu City, Arizona

Applicant requests authorization to conduct presence/absence surveys for the Mohave desert tortoise (Gopherus agassizii) and Yuma clapper rail (Rallus longirostris yumanensis) in Arizona, Nevada, and California.

Permit No. TE-22582

Applicant: Marilyn Murov, Flagstaff, Arizona

Applicant requests authorization to conduct presence/absence surveys for the Mohave desert tortoise (Gopherus agassizii), cactus ferruginous pygmy-owl (Glaucidium brasilianum cactorum), and southwestern willow flycatcher (Empidonax traillii extimus) in Arizona, New Mexico, and Texas.

DATES: Written comments on these permit applications must be received on or before March 30, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents within 30 days of the date of publication of this notice, to the address above.

Bryan Arroyo,
Programmatic Assistant Regional Director, Ecological Services, Region 2, Albuquerque, New Mexico.

[FR Doc. 00-4722 Filed 2-28-00; 8:45 am]

BILLING CODE 4310-55-P